NUCLEAR REGULATORY COMMISSION

[NRC-2025-0082]

Monthly Notice; Applications and Amendments to Facility Operating Licenses and Combined Licenses Involving No Significant Hazards Considerations

AGENCY: Nuclear Regulatory Commission.

ACTION: Monthly notice.

SUMMARY: Pursuant to the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by June 13, 2025. A request for a hearing or petitions for leave to intervene must be filed by July 14, 2025. This monthly notice includes all amendments issued, or proposed to be issued, from March 28, 2025, to April 24, 2025. The last monthly notice was published on April 15, 2025.

ADDRESSES: You may submit comments by any of the following methods (unless this document describes a different method for submitting comments on a specific subject); however, the NRC encourages electronic comment submission through the Federal rulemaking website.

• Federal Rulemaking Website: Go to https://www.regulations.gov and search for Docket ID NRC-2025-0082. Address questions about Docket IDs in Regulations.gov to Bridget Curran; telephone: 301-415-1003; email: Bridget.Curran@nrc.gov. For technical questions, contact the individual listed in the “For Further Information Contact” section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Susan Lent, Office of Nuclear Reactor Regulation, U.S. Nuclear Regulatory Commission, Washington, DC 20555-0001; telephone: 301-415-1365; email: Susan.Lent@nrc.gov.

SUPPLEMENTARY INFORMATION:

I. Obtaining Information and Submitting Comments

A. Obtaining Information

Please refer to Docket ID NRC-2025-0082, facility name, unit number(s), docket number(s), application date, and subject when contacting the NRC about the availability of information for this action. You may obtain publicly available information related to this action by any of the following methods:

• Federal Rulemaking Website: Go to https://www.regulations.gov and search for Docket ID NRC-2025-0082.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2025-0082, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Omaha Public Power District; Fort Calhoun Station Unit, No. 1; Washington County, NE
Docket No | 50-285.
Application date | August 3, 2021, as supplemented by letter dated January 13, 2022.
ADAMS Accession No | ML21271A178 (package), ML22034A559.
Location in Application of NSHC | Pages 11-13 of Enclosure 1, ML21271A143.
Brief Description of Amendment | The proposed amendment would approve the License Termination Plan (LTP) and add a license condition that establishes the criteria for determining when changes to the LTP require prior NRC approval.
Proposed Determination | NSHC.
Name of Attorney for Licensee, Mailing Address | Stephen M. Bruckner, Attorney, Fraser Stryker PC LLO, 500 Energy Plaza, 409 South 17th Street, Omaha, NE 68102.
NRC Project Manager, Telephone Number | Jack Parrott, 301-415-6634.
Constellation Energy Generation, LLC; Braidwood Station, Units 1 and 2, Will County, IL; Byron Station, Unit Nos. 1 and 2, Ogle County, IL
Docket Nos | 50-456, 50-457, 50-454, 50-455.
Application date | March 14, 2025.
ADAMS Accession No | ML25076A032.
Location in Application of NSHC | Pages 8-10 of Attachment 1.
Brief Description of Amendments | The proposed amendments request adoption of Technical Specifications Task Force (TSTF) Traveler, TSTF-286, Revision 2, “Define `Operations Involving Positive Reactivity Additions',” TSTF-471, Revision 1, “Eliminate Use of Term CORE ALTERATIONS in ACTIONS and NOTES,” and TSTF-571-T, Revision 0, “Revise Actions for Inoperable Source Range Neutron Flux Monitor.”
Proposed Determination | NSHC.
Name of Attorney for Licensee, Mailing Address | Jason Zorn, Associate General Counsel, Constellation Energy Generation, LLC, 101 Constitution Ave. NW, Suite 400 East, Washington, DC 20001.
NRC Project Manager, Telephone Number | Scott Wall, 301-415-2855.
Dominion Energy Nuclear Connecticut, Inc.; Millstone Power Station, Unit No. 3; New London County, CT
Docket No | 50-423.
Application date | March 20, 2025.
ADAMS Accession No | ML25079A225.
Location in Application of NSHC | Pages 20-25 of Attachment 1.
Brief Description of Amendment | The proposed amendment would revise the Millstone Power Station, Unit No. 3, technical specifications related to control building isolation, accident monitoring instrumentation, accumulator and refueling water storage tank boron concentration limits, and secondary containment surveillance requirements.
Proposed Determination | NSHC.
Name of Attorney for Licensee, Mailing Address | William (Bill) S. Blair, Senior Counsel, Dominion Energy, Inc. 120 Tredegar Street, RS-2 Richmond, VA 23219.
NRC Project Manager, Telephone Number | Richard Guzman, 301-415-1030.
Dominion Energy South Carolina, Inc.; Virgil C. Summer Nuclear Station, Unit 1, Fairfield County, SC
Docket No | 50-395.
Application date | March 20, 2025.
ADAMS Accession No | ML25079A198.
Location in Application of NSHC | Pages 16—19 of Attachment 1.
Brief Description of Amendment | The proposed amendment would modify Technical Specification 6.8.4.g, “Containment Leakage Rate Testing Program,” to replace the reference to Nuclear Energy Institute (NEI) Technical Report 94-01, Revision 2-A, with NEI Technical Report 94-01, Revision 3-A, and conditions and limitations specified in NEI-94-01, Revision 2-A, as described in the submittal.
Proposed Determination | NSHC.
Name of Attorney for Licensee, Mailing Address | W.S. Blair, Senior Counsel, Dominion Energy Services, Inc., 120 Tredegar St., RS-2, Richmond, VA 23219.
NRC Project Manager, Telephone Number | G. Ed Miller, 301-415-2481.
Duke Energy Carolinas, LLC; Catawba Nuclear Station, Units 1 and 2; York County, SC; Duke Energy Carolinas, LLC; McGuire Nuclear Station, Units 1 and 2; Mecklenburg County, NC
Docket Nos | 50-369, 50-370, 50-413, 50-414.
Application date | March 11, 2025.
ADAMS Accession No | ML25070A183.
Location in Application of NSHC | Pages 6-8 of the Enclosure.
Brief Description of Amendments | The proposed amendments would revise Catawba, Units 1 and 2, and McGuire, Units 1 and 2, Reactor Core Safety Limit 2.1.1.2 to reflect the fuel centerline melt temperature specified in WCAP-17642-P-A, Revision 1, “Westinghouse Performance Analysis and Design Model (PAD5).”
Proposed Determination | NSHC.
Name of Attorney for Licensee, Mailing Address | Tracey Mitchell LeRoy, Deputy General Counsel, Duke Energy Corporation, 525 S Tryon Street, Charlotte, NC 28202.
NRC Project Manager, Telephone Number | Jack Minzer Bryant, 301-415-0610.
Duke Energy Florida, LLC; Crystal River Unit 3 Nuclear Generating Station; Citrus County, FL
Docket No | 50-302.
Application date | February 10, 2025.
ADAMS Accession No | ML25041A177 (package).
Location in Application of NSHC | Pages 3-4 of Enclosure 1, ML25041A178.
Brief Description of Amendment | The proposed amendment would remove an additional 618 acres of property, classified as either radiologically non-impacted or Multi-Agency Radiation Survey and Site Investigation Manual Class 3, associated with the Crystal River Unit 3 Operating License. The NRC approved the removal of the 3,854 acres of property on January 2, 2020 (ADAMS Accession No. ML19339G509).
Proposed Determination | NSHC.
Name of Attorney for Licensee, Mailing Address | Gregory Di Carlo, Vice President/General Counsel, NorthStar Group Services, Inc., 15760 West Power Street, NA1A, Crystal River, FL 34428.
NRC Project Manager, Telephone Number | Chris Allen, 301-415-6877.
Energy Northwest; Columbia Generating Station; Benton County, WA
Docket No | 50-397.
Application date | February 27, 2025, as supplemented by letter dated April 1, 2025.
ADAMS Accession Nos | ML25058A497, ML25091A193.
Location in Application of NSHC | Pages 4-5 of Enclosure 1.
Brief Description of Amendment | The proposed amendment would adopt NRC-approved Technical Specifications Task Force (TSTF) Traveler, TSTF-65-A, Revision 1, “Use of Generic Titles for Utility Positions.” The proposed change would allow the use of generic personnel titles instead of plant-specific titles. Additionally, an enhancement is proposed to replace the term “plant-specific titles” with “generic titles” in Technical Specification (TS) Section 5.0 “Administrative Controls” and to use appropriately de-capitalized titles for positions, ensuring consistency with the Columbia Generating Station TS listed sections. None of the proposed changes would result in changes to technical requirements.
Proposed Determination | NSHC.
Name of Attorney for Licensee, Mailing Address | Ryan Lukson, Assistant General Counsel, Energy Northwest, MD 1020, P.O. Box 968, Richland, WA 99352.
NRC Project Manager, Telephone Number | Mahesh Chawla, 301-415-8371.
Entergy Louisiana, LLC, and Entergy Operations, Inc.; River Bend Station, Unit 1; West Feliciana Parish, LA; Entergy Operations, Inc., System Energy Resources, Inc., Cooperative Energy, A Mississippi Electric Cooperative, and Entergy Mississippi, LLC; Grand Gulf Nuclear Station, Unit 1; Claiborne County, MS; Entergy Operations, Inc.; Arkansas Nuclear One, Units 1 and 2; Pope County, AR; Entergy Operations, Inc.; Waterford Steam Electric Station, Unit 3; St. Charles Parish, LA
Docket Nos | 50-313, 50-368, 50-416, 50-458, 50-382.
Application date | January 27, 2025.
ADAMS Accession No | ML25027A421.
Location in Application of NSHC | Page 4-5 of the Enclosure.
Brief Description of Amendments | The proposed amendments would revise the Technical Specifications (TSs) for Arkansas Nuclear One, Units 1 and 2; Grand Gulf Nuclear Station, Unit 1; River Bend Station, Unit 1; and Waterford Steam Electric Station, Unit 3. The amendments would revise the Programs and Manuals TS Section 5.5, “Risk Informed Completion Time [RICT] Program,” to reference NRC's Regulatory Guide (RG) 1.200, Revision 3, instead of Revision 2, and to make other changes. Additionally, a new report would be added to the “Reporting Requirements” TS Section 5.6, to inform the NRC of newly developed methods used to calculate a RICT. The proposed changes are consistent with Technical Specifications Task Force (TSTF) Traveler, TSTF-591, “Revise Risk Informed Completion Time (RICT) Program,” Revision 0. The licensee requested that the license amendment request be reviewed under the Consolidated Line Item Improvement Process.
Proposed Determination | NSHC.
Name of Attorney for Licensee, Mailing Address | Susan Raimo, Associate General Counsel—Nuclear, 101 Constitution Avenue NW, Washington, DC 20001.
NRC Project Manager, Telephone Number | Michael Mahoney, 301-415-3867.
Entergy Operations, Inc.; Arkansas Nuclear One, Unit 2; Pope County, AR; Entergy Operations, Inc.; Waterford Steam Electric Station, Unit 3; St. Charles Parish, LA
Docket Nos | 50-368, 50-382.
Application date | February 3, 2025.
ADAMS Accession No | ML25034A156.
Location in Application of NSHC | Pages 26-27 of the Enclosure.
Brief Description of Amendments | The proposed amendments would revise the Technical Specifications (TSs) for Arkansas Nuclear One, Unit 2, and Waterford Steam Electric Station, Unit 3. Specifically, the amendments would eliminate the TS requirements for automatic diesel generator start and loading during shutdown. The proposed changes are consistent with Technical Specifications Task Force (TSTF) Traveler, TSTF-589, “Eliminate Automatic Diesel Generator Start During Shutdown,” Revision 0. The licensee requested that the license amendment request be reviewed under the Consolidated Line Item Improvement Process.
Proposed Determination | NSHC.
Name of Attorney for Licensee, Mailing Address | Susan Raimo, Associate General Counsel—Nuclear, 101 Constitution Avenue NW, Washington, DC 20001.
NRC Project Manager, Telephone Number | Michael Mahoney, 301-415-3867.
NorthStar Vallecitos, LLC; Empire State Atomic Development Agency, Experimental Superheat Reactor, Alameda County, CA
Docket No | 50-183.
Application date | April 11, 2025.
ADAMS Accession No | ML25102A001.
Location in Application of NSHC | Pages 9-10 of Attachment 1.
Brief Description of Amendment | NorthStar Vallecitos, LLC (NSV) requested an amendment to the Empire State Atomic Development Agency Vallecitos Experimental Superheat Reactor (EVESR) license (License No. DR-10) to accept the in-situ radioactive material from the Vallecitos Boiling Water Reactor (VBWR) license (License No. DPR-1). Attachment 1 described the proposed license change that would allow acceptance of the VBWR in-situ radioactive material into the EVESR license. Attachment 1 also described other proposed changes to the EVESR license which were characterized as either editorial or administrative. NSV determined that the proposed amendment meets the eligibility criteria for categorical exclusions set forth in 10 CFR 51.22(c)(9) and 51.22(c)(10)(ii). The NRC will evaluate if the amendment request satisfies the eligibility criteria for categorical exclusions set forth in 10 CFR 51.22(c)(9) and 51.22(c)(10)(ii).
Proposed Determination | NSHC.
Name of Attorney for Licensee, Mailing Address | Gregory Di Carlo, Vice President/General Counsel, NorthStar Group Services, Inc., 15760 West Power Street, NA1A, Crystal River, FL 34428.
NRC Project Manager, Telephone Number | Chris Allen, 301-415-6877.
Florida Power & Light Company; Turkey Point Nuclear Generating Unit Nos. 3 and 4; Miami-Dade County, FL
Docket Nos | 50-250, 50-251.
Application date | March 3, 2025.
ADAMS Accession No | ML25062A213.
Location in Application of NSHC | Pages 6-7 of the Enclosure.
Brief Description of Amendments | The proposed amendments would extend certain surveillance intervals to support the transition to 24-month fuel cycles.
Proposed Determination | NSHC.
Name of Attorney for Licensee, Mailing Address | James Petro, Managing Attorney—Nuclear, Florida Power and Light Company, 700 Universe Boulevard, MS LAW/JB, Juno Beach, FL 33408-0420.
NRC Project Manager, Telephone Number | Blake Purnell, 301-415-1380.
NextEra Energy Seabrook, LLC; Seabrook Station, Unit No. 1; Rockingham County, NH
Docket No | 50-443.
Application date | February 3, 2025.
ADAMS Accession No | ML25034A143.
Location in Application of NSHC | Pages 9-10 of Attachment 1.
Brief Description of Amendment | The proposed amendment would modify the Seabrook Station, Unit 1, technical specification requirements to permit the use of risk-informed completion times in accordance with Technical Specifications Task Force (TSTF) Traveler, TSTF-505, Revision 2, “Provide Risk-Informed Extended Completion Times—RITSTF Initiative [Risk-Informed TSTF] 4b” (ML18183A493).
Proposed Determination | NSHC.
Name of Attorney for Licensee, Mailing Address | Steven Hamrick, Senior Attorney 801 Pennsylvania Ave. NW, Suite 220, Washington, DC 20004.
NRC Project Manager, Telephone Number | Ricardo Lantigua, 301-415-5107.
NextEra Energy Seabrook, LLC; Seabrook Station, Unit No. 1; Rockingham County, NH
Docket No | 50-443.
Application date | March 21, 2025.
ADAMS Accession No | ML25080A172.
Location in Application of NSHC | Pages 27-29 of the Enclosure.
Brief Description of Amendment(s) | The proposed amendment would modify the Seabrook Station, Unit 1, licensing basis, by the addition of a license condition, to allow for the implementation of the provisions of 10 CFR 50.69, “Risk-Informed categorization and treatment of structures, systems and components for nuclear power reactors.”
Proposed Determination | NSHC.
Name of Attorney for Licensee, Mailing Address | Steven Hamrick, Senior Attorney 801 Pennsylvania Ave. NW, Suite 220, Washington, DC 20004.
NRC Project Manager, Telephone Number | Ricardo Lantigua, 301-415-5107.
PSEG Nuclear LLC; Salem Nuclear Generating Station, Unit Nos. 1 and 2; Salem County, NJ
Docket Nos | 50-272, 50-311.
Application date | January 31, 2025.
ADAMS Accession No | ML25031A416.
Location in Application of NSHC | Pages 3-4 of Attachment 1.
Brief Description of Amendments | The proposed amendments would modify the Salem Nuclear Generating Station, Unit Nos. 1 and 2, technical specification requirements to permit the use of risk-informed completion times in accordance with Technical Specifications Task Force (TSTF) Traveler, TSTF-505-A, Revision 2, “Provide Risk-Informed Extended Completion Times—RITSTF Initiative [Risk-Informed TSTF] 4b” (ML18183A493). The proposed amendments would also incorporate TSTF-591-A, Revision 0, “Revise the Risk Informed Completion Time (RICT) Program,” (ML22081A224).
Proposed Determination | NSHC.
Name of Attorney for Licensee, Mailing Address | Francis Romano, PSEG—Services Corporation, 80 Park Plaza, T-10, Newark, NJ 07102.
NRC Project Manager, Telephone Number | Richard Guzman, 301-415-1030.
PSEG Nuclear LLC; Salem Nuclear Generating Station, Unit Nos. 1 and 2; Salem County, NJ
Docket Nos | 50-272, 50-311.
Application date | January 31, 2025.
ADAMS Accession No | ML25031A371.
Location in Application of NSHC | Pages 26-27 of the Enclosure.
Brief Description of Amendments | The proposed amendments would modify the Salem Nuclear Generating Station, Units 1 and 2, licensing basis, by the addition of a License Condition, to allow for the implementation of the provisions of 10 CFR 50.69, “Risk-Informed Categorization and Treatment of Structures, Systems and Components for Nuclear Power Reactors.”
Proposed Determination | NSHC.
Name of Attorney for Licensee, Mailing Address | Francis Romano, PSEG—Services Corporation, 80 Park Plaza, T-10, Newark, NJ 07102.
NRC Project Manager, Telephone Number | Richard Guzman, 301-415-1030.
PSEG Nuclear LLC; Salem Nuclear Generating Station, Units 1 and 2; Salem County, NJ
Docket Nos | 50-272, 50-311.
Application date | April 3, 2025.
ADAMS Accession No | ML25093A108.
Location in Application of NSHC | Pages 6-7 of the Enclosure.
Brief Description of Amendments | The proposed amendments would revise Salem Nuclear Generating Station, Units 1 and 2, Technical Specification Surveillance Requirements (SRs) 4.6.2.3 for the containment fan cooler units, consistent with the corresponding SRs in NUREG-1431, “Standard Technical Specifications—Westinghouse Plants.”
Proposed Determination | NSHC.
Name of Attorney for Licensee, Mailing Address | Francis Romano, PSEG—Services Corporation, 80 Park Plaza, T-10, Newark, NJ 07102.
NRC Project Manager, Telephone Number | Shawn Williams, 301-415-1009.
Southern Nuclear Operating Company, Inc.; Vogtle Electric Generating Plant, Units 3 and 4; Burke County, GA
Docket Nos | 52-025, 52-026.
Application date | February 27, 2025.
ADAMS Accession No | ML25058A192.
Location in Application of NSHC | Pages E-4-E-5 of the Enclosure.
Brief Description of Amendments | The proposed amendments would remove the Table of Contents from the technical specifications and relocate it to a licensee controlled document, as described in their submittal.
Proposed Determination | NSHC.
Name of Attorney for Licensee, Mailing Address | Millicent Ronnlund, Vice President and General Counsel, Southern Nuclear Operating Co., Inc., P.O. Box 1295, Birmingham, AL 35201-1295.
NRC Project Manager, Telephone Number | G. Ed Miller, 301-415-2481.
Southern Nuclear Operating Company, Inc.; Vogtle Electric Generating Plant, Units 3 and 4; Burke County, GA
Docket Nos | 52-025, 52-026.
Application date | February 14, 2025, as supplemented by letter dated March 31, 2025.
ADAMS Accession Nos | ML25045A166, ML25090A283.
Location in Application of NSHC | Pages E-7-E-8 of the Enclosure.
Brief Description of Amendment(s) | The proposed amendments would revise Technical Specifications (TS) 3.3.8, “Engineered Safety Feature Actuation System (ESFAS) Instrumentation,” Table 3.3.8-1, to add a new Function 11.b, “Reactor Coolant System Cold Leg Temperature—High,” as well as make editorial changes to TS 3.3.8.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Southern Nuclear Operating Company, Inc.; Vogtle Electric Generating Plant, Units 3 and 4; Burke County, GA
Docket Nos | 52-025, 52-026.
Application date | March 31, 2025.
ADAMS Accession No | ML25090A305.
Location in Application of NSHC | Pages E-3 to E-4 of the Enclosure.
Brief Description of Amendments | The proposed license amendment requests would change the Vogtle Electric Generating Plant, Units 3 and 4, technical specifications (TSs) to provide additional entry conditions for TS 3.8.2, “DC Sources—Shutdown.”.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Union Electric Company; Callaway Plant, Unit No. 1; Callaway County, MO
Docket No | 50-483.
Application date | February 27, 2025
ADAMS Accession No | ML25058A155 (package).
Location in Application of NSHC | Pages 18-20 of the Enclosure.
Brief Description of Amendment | The proposed amendment would revise the emergency diesel generator (DG) frequency range for Technical Specification 3.8.1, “AC [Alternating Current] Sources—Operating,” as specified in a number of the surveillance requirements. Specifically, the proposed changes reflect incorporation of Technical Specification Task Force (TSTF) Traveler, TSTF-163, Revision 2, “Minimum vs. [versus] Steady State Voltage and Frequency,” as well as changes to the steady state DG operating frequency range consistent with the methodology specified in WCAP-17308-NP-A, “Treatment of Diesel Generator (DG) Technical Specification Frequency and Voltage Tolerances.” The proposed amendment would not change the allowable DG voltage operating range.
Proposed Determination | NSHC.
Name of Attorney for Licensee, Mailing Address | Jay E. Silberg, Pillsbury Winthrop Shaw Pittman LLP, 1200 17th St. NW, Washington, DC 20036.
NRC Project Manager, Telephone Number | Mahesh Chawla, 301-415-8371.
Wolf Creek Nuclear Operating Corporation; Wolf Creek Generating Station, Unit 1; Coffey County, KS
Docket No | 50-482.
Application date | March 18, 2025.
ADAMS Accession No | ML25077A312.
Location in Application of NSHC | Pages 11-13 of Attachment I.
Brief Description of Amendment | The proposed amendment would approve a deviation from the fire protection program requirements to allow the use of portable lighting.
Proposed Determination | NSHC.
Name of Attorney for Licensee, Mailing Address | Chris Johnson, Corporate Counsel Director, Evergy, One Kansas City Place, 1KC-Missouri HQ 16, 1200 Main Street, Kansas City, MO 64105.
NRC Project Manager, Telephone Number | Samson Lee, 301-415-3168.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Constellation Energy Generation, LLC; Limerick Generating Station, Units 1 and 2; Montgomery County, PA
Docket Nos | 50-352, 50-353.
Amendment Date | March 31, 2025.
ADAMS Accession No | ML25070A201.
Amendment Nos | 266 (Unit 1) and 228 (Unit 2).
Brief Description of Amendments | The license amendments revised the Technical Specifications (TSs) Limiting Condition for Operation 3.6.1.2 “Primary Containment Leakage.” Previously, the TSs required verification of the leak rate through each main steam isolation valve. The amendments changed the local leak rate testing to verify leak rates through each main steam line. The amendments also include editorial changes for expired footnotes.
Public Comments Received as to Proposed NSHC (Yes/No) | No.
Energy Northwest; Columbia Generating Station; Benton County, WA
Docket No | 50-397.
Amendment Date | April 9, 2025.
ADAMS Accession No | ML25072A188.
Amendment No | 277.
Brief Description of Amendment | The amendment revised Columbia Generating Station Technical Specification (TS) 3.3.5.1, “Emergency Core Cooling System (ECCS) Instrumentation,” TS Actions related to automatic depressurization system (ADS) instrumentation monitoring channels. These TS Actions are revised to reflect the plant design and the safety significance of inoperable ADS monitoring channels. The amendment is based on: (1) Technical Specifications Task Force (TSTF) Traveler 592, Revision 2, “Revise Automatic Depressurization System (ADS) Instrumentation Requirements” (TSTF-592) (ML23256A352); (2) a correction letter (ML23283A002); and (3) the associated NRC staff's safety evaluation of Traveler TSTF-592 (ML24029A148).
Public Comments Received as to Proposed NSHC (Yes/No) | No.
Entergy Louisiana, LLC, and Entergy Operations, Inc.; River Bend Station, Unit 1; West Feliciana Parish, LA; Entergy Operations, Inc., System Energy Resources, Inc., Cooperative Energy, A Mississippi Electric Cooperative, and Entergy Mississippi, LLC; Grand Gulf Nuclear Station, Unit 1; Claiborne County, MS
Docket Nos | 50-416, 50-458.
Amendment Date | April 10, 2025.
ADAMS Accession No | ML25059A409.
Amendment Nos | 237 (Grand Gulf, Unit 1) and 217 (River Bend, Unit 1).
Brief Description of Amendments | The amendments revised the “Emergency Core Cooling System (ECCS) Instrumentation” Technical Specification actions related to Automatic Depressurization System (ADS) instrumentation monitoring channels, consistent with NRC-approved Industry/Technical Specification Task Force (TSTF) Standard Technical Specification Change Traveler TSTF-592, Revision 2, “Revise Automatic Depressurization System (ADS) Instrumentation Requirements.”.
Public Comments Received as to Proposed NSHC (Yes/No) | No.
Indiana Michigan Power Company: Donald C. Cook Nuclear Plant, Units 1 and 2; Berrien County, MI
Docket Nos | 50-315, 50-316.
Amendment Date | April 9, 2025.
ADAMS Accession No | ML25071A389.
Amendment Nos | 365 (Unit 1); 346 (Unit 2).
Brief Description of Amendments | The amendments modified the Donald C. Cook Nuclear Plant, Units 1 and 2, licensing basis, by the addition of a license condition, to allow for the implementation of the provisions of 10 CFR 50.69, “Risk-Informed Categorization and Treatment of Structures, Systems and Components for Nuclear Power Reactors.” The provisions of 10 CFR 50.69 allow adjustment of the scope of equipment subject to special treatment controls (e.g., quality assurance, testing, inspection, condition monitoring, assessment, and evaluation).
Public Comments Received as to Proposed NSHC (Yes/No) | No.
Northern States Power Company; Monticello Nuclear Generating Plant; Wright County, MN
Docket No | 50-263.
Amendment Date | April 10, 2025.
ADAMS Accession No | ML25076A019.
Amendment No | 215.
Brief Description of Amendment | The amendment adopts Technical Specifications Task Force (TSTF) Traveler, TSTF-554, Revision 1, “Revise Reactor Coolant Leakage Requirements“; which is an approved change to the Standard Technical Specifications, into the Monticello Nuclear Generating Plant Technical Specifications.
Public Comments Received as to Proposed NSHC (Yes/No) | No.
Northern States Power Company; Monticello Nuclear Generating Plant; Wright County, MN
Docket No | 50-263.
Amendment Date | April 22, 2025.
ADAMS Accession No | ML25086A138.
Amendment No | 216.
Brief Description of Amendment | The amendment revised the Monticello Nuclear Generating Plant technical specification (TS) actions applicable when a residual heat removal (RHR) shutdown cooling subsystem is inoperable and provides a TS exception to entering Mode 4 if both required RHR shutdown cooling subsystems are inoperable. The changes are consistent with Technical Specification Task Force (TSTF) Traveler, TSTF-566, Revision 0, “Revise Actions for Inoperable RHR Shutdown Cooling Subsystems“; and Traveler TSTF-580, Revision 1, “Provide Exception from Entering Mode 4 With No Operable RHR Shutdown Cooling“.
Public Comments Received as to Proposed NSHC (Yes/No) | No.
Pacific Gas and Electric Company; Diablo Canyon Nuclear Power Plant, Units 1 and 2; San Luis Obispo County, CA
Docket Nos | 50-275, 50-323.
Amendment Date | March 27, 2025.
ADAMS Accession No | ML25063A335.
Amendment Nos | 248 (Unit 1) and 250 (Unit 2).
Brief Description of Amendments | The amendments revised Technical Specification 5.5.16, “Containment Leakage Rate Testing Program,” for permanent extension of Type A and Type C leak rate test frequencies.
Public Comments Received as to Proposed NSHC (Yes/No) | No.
PSEG Nuclear LLC; Salem Nuclear Generating Station, Unit Nos. 1 and 2; Salem County, NJ
Docket Nos | 50-272, 50-311.
Amendment Date | April 24, 2025.
ADAMS Accession No | ML25073A111.
Amendment Nos | 350 (Unit 1) and 332 (Unit 2).
Brief Description of Amendments | The amendments revised the Salem Nuclear Generating Station, Unit Nos. 1 and 2, technical specifications to allow for the use of Optimized ZIRLO™ fuel rod cladding material and make other editorial changes.
Public Comments Received as to Proposed NSHC (Yes/No) | No.
Tennessee Valley Authority; Sequoyah Nuclear Plant, Units 1 and 2; Hamilton County, TN; Tennessee Valley Authority; Watts Bar Nuclear Plant, Units 1 and 2; Rhea County, TN
Docket Nos | 50-327, 50-328, 50-390, 50-391.
Amendment Date | March 31, 2025.
ADAMS Accession No | ML25051A210.
Amendment Nos | 371 (Sequoyah, Unit 1), 365 (Sequoyah, Unit 2), 173 (Watts Bar, Unit 1), 78 (Watts Bar, Unit 2).
Brief Description of Amendments | The amendments revised Functions 5a and 5b in the Sequoyah Nuclear Plant (Sequoyah), Units 1 and 2, and Watts Bar Nuclear Plant (Watts Bar), Units 1 and 2, Technical Specification (TS) Table 3.3.2-1, “Engineered Safety Feature Actuation System Instrumentation,” by adding a new note related to the turbine trip function. The amendments also revised note (f) in the Watts Bar, Unit 1, and note (h) in Watts Bar, Unit 2, TS Table 3.3.2-1. Additionally, amendments re-lettered the notes in Sequoyah, Units 1 and 2, TS Table 3.3.2-1 due to the addition of the new note, and deleted note (j) and note (k) from Watts Bar, Units 1 and 2, respectively, as well as re-lettered the remaining notes accordingly.
Public Comments Received as to Proposed NSHC (Yes/No) | No.
Tennessee Valley Authority; Watts Bar Nuclear Plant, Units 1 and 2; Rhea County, TN
Docket Nos | 50-390, 50-391.
Amendment Date | April 1, 2025.
ADAMS Accession No | ML25051A257.
Amendment Nos | 174 (Unit 1), 79 (Unit 2).
Brief Description of Amendments | The amendments revised Watts Bar Nuclear Plant, Units 1 and 2, Technical Specification (TS) 3.7.11, “Control Room Emergency Air Temperature Control System (CREATCS),” by modifying the conditions and required actions for two inoperable CREATCS trains. The revised condition and required actions allow up to 96 hours to restore one CREATCS train to operable status provided mitigating actions are taken to ensure the control room temperature will not exceed 90 degrees Fahrenheit, and revised conditions for when this condition cannot be met during the different modes of operation. Additionally, the amendments deleted a previously approved one-time footnote.
Public Comments Received as to Proposed NSHC (Yes/No) | No.
Tennessee Valley Authority; Watts Bar Nuclear Plant, Units 1 and 2; Rhea County, TN
Docket Nos | 50-390, 50-391.
Amendment Date | April 16, 2025.
ADAMS Accession No | ML25084A104.
Amendment Nos | 175 (Unit 1) and 80 (Unit 2).
Brief Description of Amendments | The amendments revised Watts Bar Nuclear Plant, Units 1 and 2, Technical Specification (TS) 3.8.1, “AC [alternating current] Sources—Operating,” by adopting Technical Specification Task Force (TSTF) Traveler, TSTF-276-A, Revision 2, “Revise DG [diesel generator] full load rejection test.” Specifically, the proposed amendments would revise the notes to Surveillance Requirement (SR) 3.8.1.9, for the DG single largest load rejection test, SR 3.8.1.10, for the DG full load rejection test, and SR 3.8.1.14, for the DG endurance and margin test, to require that these SRs be performed at a specified power factor of ≤0.9 with clarifications addressing situations when the power factor cannot be achieved. The amendments also revised SR 3.8.1.10 and SR 3.8.1.14 to remove the surveillance kVAR ranges and modified the note to SR 3.8.1.18 to allow for the surveillance to be performed in Modes 1, 2, 3, or 4 to reestablish operability provided an assessment of plant safety is performed.
Public Comments Received as to Proposed NSHC (Yes/No) | No.
Union Electric Company; Callaway Plant, Unit No. 1; Callaway County, MO
Docket No | 50-483.
Amendment Date | April 10, 2025.
ADAMS Accession No | ML25084A354.
Amendment No | 239.
Brief Description of Amendment | The amendment revised Callaway Plant, Unit No. 1, Technical Specification 4.2.2, “Control Rod Assemblies,” to add a note that for Operating Cycle 28, operation is permitted with 52 control rod assemblies with no control rod assembly installed in core location H-08.
Public Comments Received as to Proposed NSHC (Yes/No) | No.
Vistra Operations Company LLC; Beaver Valley Power Station, Units 1 and 2; Beaver County, PA
Docket Nos | 50-334, 50-412.
Amendment Date | April 11, 2025.
ADAMS Accession No | ML25078A036.
Amendment Nos | 325 (Unit 1) and 215 (Unit 2).
Brief Description of Amendments | The amendments revised Beaver Valley Power Station, Units 1 and 2, Technical Specification (TS) 3.5.2, “ECCS—Operating,” to delete NOTE 4 for Limiting Condition for Operation(LCO) 3.5.2, and TS 5.6.3, “Core Operating Limits Report (COLR),” to correct typographical errors in the titles of topical reports.
Public Comments Received as to Proposed NSHC (Yes/No) | No.

Dated: May 8, 2025.
For the Nuclear Regulatory Commission.
Jamie Pelton,
Acting Director, Division of Operating Reactor Licensing, Office of Nuclear Reactor Regulation.

[FR Doc. 2025-08417 Filed 5-13-25; 8:45 am]

BILLING CODE 7590-01-P